DEPARTMENT OF HEALTH AND HUMAN SERVICES

Centers for Disease Control and Prevention

[60Day-21-1039; Docket No. CDC-2021-0013]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Cause-Specific Absenteeism in Schools and Evaluation of Influenza Transmission within Student Households. This collection is designed as an evaluation of cause-specific absenteeism in school and evaluation of influenza and SARS-CoV-2 within student households.

DATES: CDC must receive written comments on or before April 30, 2021.

ADDRESSES: You may submit comments, identified by Docket No. CDC-2021-0013 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Cause-Specific Absenteeism in Schools and Evaluation of Influenza Transmission within Student Households (OMB Control No. 0920-1039, Exp. 3/31/2021)—Reinstatement with Change—National Center for Emerging and Zoonotic Infectious Diseases (NCEZID), Centers for Disease Control and Prevention (CDC).

Background and Brief Description

This information collection aims to improve our understanding of the role of influenza-like illness (ILI)-specific absenteeism in schools in predicting community-wide influenza transmission and to detect within-household transmission of influenza in households from which a student has been absent from school due to ILI. Insights gained from this information collection will be used to strengthen the evidence-base of CDC's Pre-Pandemic Guidance prior to the next pandemic.

School children are frequently the main introducers of influenza to their families. Evaluating influenza transmission within households where students are absent from school because of ILI may serve as an additional layer of influenza surveillance and could contribute to understanding of influenza transmission dynamics within the surrounding community. This aims to enhance current knowledge and understanding around the introduction of influenza infection to households that have school-age children, as well as within-household influenza transmission.

CDC requests a three-year approval for this Reinstatment. Estimated annualized burden hours requested for this collection are 449. There is no cost to respondents other than their time.

Estimated Annualized Burden Hours
Type of respondents | Form name | Number of respondents | Number of responses per respondent | Average burden per response (in hours) | Total burden (in hours)
Parent/guardians of students or students 18 or older | Screening Form | 345 | 1 | 5/60 | 29
Parent/guardians of students or students 18 or older | Acute Respiratory Infection and Influenza Surveillance Form | 300 | 1 | 15/60 | 75
Student | Biospecimen Collection Day 0 | 300 | 1 | 5/60 | 25
Household Members | Household Study Form Days 0, 7, 14 | 720 | 3 | 5/60 | 120
Parent/guardians of students or students 18 or older | Household Study Form Days 7, 14 | 300 | 2 | 5/60 | 80
Household Members | Biospecimen Collection Days 0, 7, 14 | 720 | 3 | 5/60 | 120
Total |  |  |  |  | 449

Jeffrey M. Zirger,
Lead, Information Collection Review Office, Office of Scientific Integrity, Office of Science, Centers for Disease Control and Prevention.

[FR Doc. 2021-04179 Filed 2-26-21; 8:45 am]

BILLING CODE 4163-18-P